INTERNATIONAL TRADE COMMISSION

[Investigation Nos. 303-TA-23, 731-TA-566-570, and 731-TA-641 (Final) (Reconsideration) (Third Remand)]

Ferrosilicon From Brazil, China, Kazakhstan, Russia, Ukraine, and Venezuela

AGENCY: International Trade Commission.

ACTION: Notice of remand proceedings.

SUMMARY: The United States International Trade Commission (Commission) hereby gives notice of the court-ordered remand of its reconsideration proceedings pertaining to countervailing duty Investigation No. 303-TA-23 (Final) concerning ferrosilicon from Venezuela, and antidumping Investigations Nos. 731-TA-566-570 and 731-TA-641 (Final) concerning ferrosilicon from Brazil, China, Kazakhstan, Russia, Ukraine, and Venezuela.

DATES: Effective Date: June 22, 2004.

FOR FURTHER INFORMATION CONTACT: Christopher J. Cassise, Office of Investigations, telephone 202-708-5408, or Marc A. Bernstein, Office of General Counsel, telephone 202-205-3087, U.S. International Trade Commission, 500 E Street, SW., Washington, DC 20436. Hearing-impaired individuals are advised that information on this matter can be obtained by contacting the Commission's TDD terminal on 202-205-1810. General information concerning the Commission may also be obtained by accessing its Internet server (http://www.usitc.gov).

SUPPLEMENTARY INFORMATION:

Background

In August 1999 the Commission made negative determinations upon reconsideration in its antidumping and countervailing duty investigations concerning ferrosilicon from Brazil, China, Kazakhstan, Russia, Ukraine, and Venezuela. Ferrosilicon from Brazil, China, Kazakhstan, Russia, Ukraine, and Venezuela, Inv. Nos. 303-TA-23, 731-TA-566-570, 731-TA-641 (Final) (Reconsideration), USITC Pub. 3218 (Aug. 1999). The Commission's determinations were appealed to the U.S. Court of International Trade (CIT). On February 21, 2002, the CIT remanded the matter to the Commission for further proceedings. Elkem Metals Co. v. United States, 193 F. Supp. 2d 1314 (Ct. Int'l Trade 2002). On remand, the Commission conducted further proceedings. In September 2002 it reached negative determinations on remand. Ferrosilicon from Brazil, China, Kazakhstan, Russia, Ukraine, and Venezuela, Inv. Nos. 303-TA-23, 731-TA-566-570, and 731-TA-631 (Final) (Reconsideration) (Remand), USITC Pub. 3531 (Sept. 2002). On June 18, 2003, the CIT issued an opinion concerning the Commission's determinations on remand which affirmed the Commission in part and remanded in part for further proceedings. Elkem Metals Co. v. United States, 276 F. Supp. 2d 1296 (Ct. Int'l Trade 2003). In September 2003 the Commission reached negative determinations in the second remand proceeding. Ferrosilicon from Brazil, China, Kazakhstan, Russia, Ukraine, and Venezuela, Inv. Nos. 303-TA-23, 731-TA-566-570, and 731-TA-631 (Final) (Reconsideration) (Second Remand), USITC Pub. 3627 (Sept. 2003). On May 12, 2004, the CIT issued an opinion concerning the Commission's determinations on second remand which remanded the matter for further proceedings. Elkem Metals Co. v. United States, slip op. 04-49 (Ct. Int'l Trade May 12, 2004) (“2004 Elkem Slip Op.”).

Written Submissions

The Commission is not reopening the record in the third remand proceeding for submission of new factual information. Pursuant to the prior decisions of the CIT, its determination will be based on best information available. See 2004 Elkem Slip Op. at 12-15.

The Commission will, however, permit the parties to file written submissions limited to the following issues:

(1) An identification and discussion of any information in the record pertinent to the inquiry concerning the “ ‘true’ market price” of ferrosilicon that the CIT directs the Commission to conduct. See Elkem 2004 Slip Op. at 18.

(2) An identification and discussion of any probative information in the record concerning quarterly fluctuations during the original period of investigation in U.S. demand and apparent consumption.

(3) An identification and discussion of any information in the record pertinent to the inquiry concerning specific contract language, dates, and provisions that the CIT directs the Commission to conduct. See 2004 Elkem Slip Op. at 21.

(4) A discussion of the information in the record concerning similarities and differences between prices charged by domestic ferrosilicon producers American Alloys, Elkem, and SKW, on the one hand, and other domestic ferrosilicon producers, on the other hand, during the portion of the original period of investigation subsequent to July 1, 1991.

(5) An identification and discussion of any probative information in the record concerning the inquiry concerning “baseline” prices that the CIT contemplates the Commission will conduct. See 2004 Elkem Slip Op. at 32.

This submission must be filed with the Commission no later than 14 days after publication of this notice in the Federal Register, shall not contain any new factual information, and shall not exceed 25 pages of textual material, double-spaced and single-sided, on stationery measuring 8½ x 11 inches.

The Commission has filed with the CIT a motion for reconsideration of portions of its May 12, 2004 slip opinion. It has also filed a motion to stay the CIT's order requiring a report of remand results pending disposition of the reconsideration motion. Should the CIT grant either of these motions before the due date for the submissions described above, the Commission will extend the deadline for filing of these submissions. Should the reconsideration motion be granted, the Commission may, if appropriate, modify the issues that may be discussed in these submissions.

All written submissions must conform with the provisions of section 201.8 of the Commission's rules; any submissions that contain business proprietary information (BPI) must also conform with the requirements of sections 201.6, 207.3, and 207.7 of the Commission's rules. The Commission's rules do not authorize filing of submissions with the Secretary by facsimile or electronic means, except to the extent permitted by section 201.8 of the Commission's rules, as amended, 67 FR 68036 (Nov. 8, 2002).

In accordance with sections 201.16(c) and 207.3 of the Commission's rules, each document filed by a party to the investigations must be served on all other parties to the investigations (as identified by either the public or BPI service list), and a certificate of service must be timely filed. The Secretary will not accept a document for filing without a certificate of service.

Parties are also advised to consult the Commission's Rules of Practice and Procedure, part 201, subparts A through E (19 CFR part 201), and part 207, subpart A (19 CFR part 207) for provisions of general applicability concerning written submissions to the Commission.

Participation in the Proceedings

Only those persons who were parties to the previous reconsideration proceedings (i.e., persons listed on the Commission Secretary's service list) may participate as parties in the third remand proceedings.

Authority: This action is taken under the authority of title VII of the Tariff Act of 1930 as amended.

Issued: June 22, 2004.
By order of the Commission.
Marilyn R. Abbott,
Secretary to the Commission.

[FR Doc. 04-14556 Filed 6-25-04; 8:45 am]

BILLING CODE 7020-02-P